DEPARTMENT OF COMMERCE

Foreign-Trade Zones Board

[B-4-2023]

Foreign-Trade Zone 84—Houston, Texas; Application for Reorganization (Expansion of Service Area) Under Alternative Site Framework

An application has been submitted to the Foreign-Trade Zones (FTZ) Board by the Port of Houston Authority, grantee of Foreign-Trade Zone 84, requesting authority to reorganize the zone to expand its service area under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the FTZ Board (15 CFR part 400). It was formally docketed on January 11, 2023.

FTZ 84 was approved by the FTZ Board on July 15, 1983 (Board Order 214, 48 FR 34792, August 1, 1983), reorganized under the ASF on January 30, 2015 (Board Order 1964, 80 FR 7838-7839, February 12, 2015), and expanded under the ASF on February 28, 2018 (Board Order 2047, 83 FR 9479, March 6, 2018). The zone currently has a service area that includes Harris County, Texas.

The applicant is now requesting authority to expand the service area of the zone to include Waller County, Texas, as described in the application. If approved, the grantee would be able to serve sites throughout the expanded service area based on companies' needs for FTZ designation. The application indicates that the proposed expanded service area is adjacent to the Houston Customs and Border Protection Port of Entry.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is March 20, 2023. Rebuttal comments in response to material submitted during the foregoing period may be submitted during the subsequent 15-day period to April 3, 2023.

A copy of the application will be available for public inspection in the “Online FTZ Information Section” section of the FTZ Board's website, which is accessible via www.trade.gov/ftz.

For further information, contact Camille Evans at Camille.Evans@trade.gov.

Dated: January 11, 2023.
Elizabeth Whiteman,
Acting Executive Secretary.

[FR Doc. 2023-00735 Filed 1-13-23; 8:45 am]

BILLING CODE 3510-DS-P